DEPARTMENT OF TRANSPORTATION

Federal Aviation Administration

14 CFR Part 39

[Docket No. 98-ANE-48-AD; Amendment 39-12867; AD 2002-17-02]

RIN 2120-AA64

Airworthiness Directives; Pratt & Whitney JT8D Series Turbofan Engines; Correction

AGENCY: Federal Aviation Administration, DOT.

ACTION: Final rule; correction.

SUMMARY: This document makes a correction to Airworthiness Directive (AD) 2002-17-02 applicable to Pratt & Whitney JT8D series turbofan engines that was published in the Federal Register on August 28, 2002 (67 FR 55108). The first sentence in the amendatory language that states “2. Section 39.13 is amended by removing Amendment 39-11940 (65 FR 65731, November 2, 2000) and by adding a new airworthiness directive to read as follows:” is incorrect. This document corrects that sentence. In all other respects, the original document remains the same.

EFFECTIVE DATE: August 28, 2002.

FOR FURTHER INFORMATION CONTACT: Christopher Spinney, Aerospace Engineer, Engine Certification Office, FAA, Engine and Propeller Directorate, 12 New England Executive Park; Burlington, MA 01803-5299; telephone (781) 238-7175; fax (781) 238-7199.

SUPPLEMENTARY INFORMATION: A final rule airworthiness directive FR Doc. 02-21832 applicable to Pratt & Whitney JT8D series turbofan engines, was published in the Federal Register on August 28, 2002 (67 FR 55108). The following correction is needed:

§ 39.13 [Corrected]

On page 55110, in the second column, the first sentence of the amendatory language is corrected to read:

“2. Section 39.13 is amended by removing Amendment 39-11940 (65 FR 65731, November 2, 2000) and by adding a new airworthiness directive, Amendment 39-12867, to read as follows:''

Issued in Burlington, MA, on August 30, 2002.
Francis Favara,
Acting Manager, Engine and Propeller Directorate, Aircraft Certification Service.

[FR Doc. 02-22759 Filed 9-6-02; 8:45 am]

BILLING CODE 4910-13-P